ENVIRONMENTAL PROTECTION AGENCY

[ER-FRL-6616-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 14, 2000 (65 FR 20157).

Draft EISs

ERP No. D-FHW-F40391-MI Rating EC2, M-24 Reconstruction Project, From One Mile North of the Oakland County Line to I-69, Funding, Lapeer County, MI.

Summary: EPA expressed environmental concerns regarding the evaluation of the alternatives and wetland mitigation, and requested the additional information be included in the final EIS.

ERP No. D-NPS-L65368-WA Rating LO, Mount Rainier National Park General Management Plan, Implementation, Pierce and Lewis Counties, WA.

Summary: EPA expressed lack of concerns, however we provided comments which may help in addressing the goals of the Class I airshed and maintaining and preserving the Park's interior forest integrity.

Final EISs

ERP No. F-FHW-C40148-NY, Miller Highway Project (P.I.N. 103.27), Relocation of Miller Highway between West 59th Street to West 72nd Streets, on the Upper West Side of Manhattan, Funding and COE Section 404 Permit, New York County, NY.

Summary: The plan to characterize more adequately the nature and extent of contamination at the site and apply the appropriate remediation measure to contaminated excavated soil in consultation with the EPA and NYSDEC prior to the implementation of the project addressed the concern expressed in EPA's the comments on the draft EIS. EPA recommended that the commitment be included in the Record of Decision.

ERP No. FS-NPS-E61073-MS, Natchez Trace Parkway, Update Information on the Construction of Section 3P13 (Old Agency Road), City of Ridgeland, Madison County, MS.

Summary: EPA continues to express environmental concerns with wetland impact mitigation, compensation plan and plan implementation.

Dated: March 27, 2001.
Joseph C. Montgomery,
Director, NEPA Compliance Division, Office of Federal Activities.

[FR Doc. 01-7945 Filed 3-29-01; 8:45 am]

BILLING CODE 6560-50-P